DEPARTMENT OF DEFENSE

GENERAL SERVICES ADMINISTRATION

NATIONAL AERONAUTICS AND SPACE ADMINISTRATION

[Docket 2012-0076; Sequence 34; OMB Control No. 9000-0088]

Federal Acquisition Regulation; Submission for OMB Review; Travel Costs

AGENCIES: Department of Defense (DOD), General Services Administration (GSA), and National Aeronautics and Space Administration (NASA).

ACTION: Notice of request for comments regarding the extension of a previously existing OMB clearance.

SUMMARY: Under the provisions of the Paperwork Reduction Act, the Regulatory Secretariat will be submitting to the Office of Management and Budget (OMB) a request to review and approve an extension of a previously approved information collection requirement concerning Travel Costs. A notice was published in the Federal Register at 77 FR 67366, on November 9, 2012. Two respondents submitted comments.

DATES: Submit comments on or before June 24, 2013.

ADDRESSES: Submit comments identified by Information Collection 9000-0088, Travel Costs by any of the following methods:

• Regulations.gov: http://www.regulations.gov. Submit comments via the Federal eRulemaking portal by searching the OMB control number. Select the link “Submit a Comment” that corresponds with “Information Collection 9000-0088, Travel Costs.” Follow the instructions provided at the “Submit a Comment” screen. Please include your name, company name (if any), and “Information Collection 9000-0088, Travel Costs” on your attached document.

• Fax: 202-501-4067.

• Mail: General Services Administration, Regulatory Secretariat (MVCB), 1275 First Street NE., Washington, DC 20417. ATTN: Hada Flowers/IC 9000-0088, Travel Costs.

Instructions: Please submit comments only and cite Information Collection 9000-0088, Travel Costs, in all correspondence related to this collection. All comments received will be posted without change to http://www.regulations.gov, including any personal and/or business confidential information provided.

FOR FURTHER INFORMATION CONTACT: Mr. Edward Chambers, Procurement Analyst, Office of Acquisition Policy, GSA, (202) 501-3221 or via email at Edward.chambers@gsa.gov.

A. Purpose

FAR 31.205-46, Travel Costs, requires that, except in extraordinary and temporary situations, costs incurred by a contractor for lodging, meals, and incidental expenses shall be considered to be reasonable and allowable only to the extent that they do not exceed on a daily basis the per diem rates in effect as of the time of travel. These requirements are set forth in the Federal Travel Regulations for travel in the conterminous 48 United States, the Joint Travel Regulations, Volume 2, Appendix A, for travel in Alaska, Hawaii, the Commonwealth of Puerto Rico, and territories and possessions of the United States, and the Department of State Standardized Regulations, section 925, “Maximum Travel Per Diem Allowances for Foreign Areas.” The burden generated by this coverage is in the form of the contractor preparing a justification whenever a higher actual expense reimbursement method is used.

B. Discussion and Analysis

Two respondents submitted public comments on the extension of the previously approved information collection. The analysis of the public comments is summarized as follows:

Comment: One respondent stated that per diem reimbursement is reasonable so long as the per diem limits match the actual costs of travel and saves considerable administrative costs. The other respondent stated that the collection was both necessary and useful, but suggested that the Government explore the use of the Defense Travel System or a similar system to control travel costs.

Response: The comments are acknowledged, but do not address the estimated burden associated with this information collection requirement. The total estimated annual reporting burden remains the same as previously approved.

C. Annual Reporting Burden

Respondents: 5,800.

Responses per Respondent: 10.

Total Responses: 58,000.

Hours per Response: .25.

Total Burden Hours: 14,500.

Obtaining Copies of Proposals: Requesters may obtain a copy of the information collection documents from the General Services Administration, Regulatory Secretariat (MVCB), 1275 First Street NE., Washington, DC 20417, telephone (202) 501-4755. Please cite OMB Control No. 9000-0088, Travel Costs, in all correspondence.

Dated: May 17, 2013.
William Clark,
Acting Director, Federal Acquisition Policy Division, Office of Governmentwide Acquisition Policy, Office of Acquisition Policy, Office of Governmentwide Policy.

[FR Doc. 2013-12345 Filed 5-23-13; 8:45 am]

BILLING CODE 6820-EP-P